FEDERAL COMMUNICATIONS COMMISSION

47 CFR Part 73

[DA No. 00-2372; MM Docket No. 99-220; RM-9601 and RM-9636]

Radio Broadcasting Services; Darby and Stevensville, MT

AGENCY: Federal Communications Commission.

ACTION: Final rule.

SUMMARY: This document allots Channel 300A to Darby, Montana, in response to a petition filed by Mountain West Broadcasting and denies the petition filed by The Battani Corporation requesting the allotment of Channel 300C2 at Stevensville, Montana. See 64 FR 34751, June 29, 1999. The coordinates for Channel 300A at Darby are 46-01-18 and 114-10-43. With this action, this proceeding is terminated. A filing window for Channel 300A at Darby will not be opened at this time. Instead, the issue of opening a filing window for this channel will be addressed by the Commission in a subsequent order.

DATES: Effective December 11, 2000.

FOR FURTHER INFORMATION CONTACT: Kathleen Scheuerle, Mass Media Bureau, (202) 418-2180.

SUPPLEMENTARY INFORMATION: This is a summary of the Commission's Report and Order, MM Docket No. 99-220, adopted October 11, 2000, and released October 20, 2000. The full text of this Commission decision is available for inspection and copying during normal business hours in the Commission's Reference Center, 445 12th Street, SW, Washington, DC. The complete text of this decision may also be purchased from the Commission's copy contractors, International Transcription Services, Inc., 1231 20th Street, NW., Washington, DC 20036, (202) 857-3800, facsimile (202) 857-3805.

List of Subjects in 47 CFR Part 73

Radio broadcasting.

Part 73 of title 47 of the Code of Federal Regulations is amended as follows:

PART 73—RADIO BROADCAST SERVICES

1. The authority citation for Part 73 continues to read as follows:

Authority: 47 U.S.C. 154, 303, 334 and 336.

§ 73.202 [Amended]

2. Section 73.202(b), the Table of FM Allotments under Montana, is amended by adding Darby, Channel 300A.

Federal Communications Commission.
John A. Karousos,
Chief, Allocations Branch, Policy and Rules Division, Mass Media Bureau.

[FR Doc. 00-28690 Filed 11-8-00; 8:45 am]

BILLING CODE 6712-01-P